DEPARTMENT OF JUSTICE

Notice of Lodging of Consent Decrees Under the Comprehensive Environmental Response, Compensation, and Liability Act

Notice is hereby given that on February 13, 2003, four proposed Consent Decrees in United States v. Samson Hydrocarbons Company, et al. Civil No. 03-1078 DDP (VBKx), were lodged with the United States District Court for the Central District of California.

In this action the United States seeks the recovery of response costs incurred at the Casmalia Resources Hazardous Waste Management Facility (“Site”) pursuant to the Comprehensive Environmental Response, Compensation, and Liability Act (“CERCLA”), 42 U.S.C. 9601 et seq. The United States alleges that the defendants disposed or arranged to dispose of hazardous substances at the Site. The first Consent Decree (the “Samson Hydrocarbons Consent Decree”) involves 41 private parties and four Federal agencies, and requires these parties to pay $28,553,979. The second Consent Decree (the “Baumgartner Consent Decree”) involves Baumgartner Oil and Gas Company, Baumgartner Oil Company, and Franklin W. Barmgartner and requires these parties to pay $2,309,085. The third Consent Decree (the “Crosby Consent Decree”) involves Crosby & Overton, Inc. and requires this party to pay $590,975. The fourth Consent Decree involves Quintana Petroleum Company (the “Quintana Consent Decree”) and requires this party to pay $480,633. The total value of these settlements is in excess of $31 million.

The Department of Justice will receive, for a period of sixty (60) days from the date of this publication, comments relating to the Consent Decree. Comments should be addressed to the Assistant Attorney General, Environment and Natural Resources Division, P.O. Box 7611, U.S. Department of Justice, Washington, DC 20044-7611, and should refer specifically and individually to the “Samson Hydrocarbons Consent Decree,” the “Baumgartner Consent Decree,” the “Crosby Consent Decree,” or the “Quantana Consent Decree” and include the DOJ Ref. 90-7-1-611/5.

The Consent Decrees may be examined at the U.S. EPA Region 9, 75 Hawthorne Street, San Francisco, CA 94105. During the public comment period, the Consent Decrees may be examined on the following Department of Justice Web site, http://www.usdoj.gov/enrd/open.html. Copies of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please specifcy the “Samson Hydrocarbons Consent Decree,” the “Baumgartner Consent Decree,” the “Crosby Consent Decree,” or the “Quintana Consent Decree.” Requests should also reference United States v. Samson Hydrocarbons Company et al., Civil No. 03-1078 DDP (VBKx) and DOJ Ref. 90-7-1-611/5, respectively, and should enclose a check for each in the amount of $155.25 for the “Samsom Hydrocarbons Consent Decree,” $8.50 for the “Baumgartner Consent Decree,” $7.75 for the “Crosby Consent Decree,” and $8.00 for the “Quintana Consent Decree” (25 cents per page reproduction cost) payable to the U.S. Treasury.

Ellen M. Mahan,
Assistant Chief, Environmental Enforcement Section, Environment and Natural Resources Division.

[FR Doc. 03-5753 Filed 3-10-03; 8:45 am]

BILLING CODE 4410-15-M